DEPARTMENT OF COMMERCE

National Oceanic and Atmospheric Administration

RIN 0648-XG83

Endangered Species; File No. 13330

AGENCY: National Marine Fisheries Service (NMFS), National Oceanic and Atmospheric Administration (NOAA), Commerce.

ACTION: Notice; receipt of application.

SUMMARY: Notice is hereby given that the Southeast Fisheries Science Center (Responsible Official - Bonnie Ponwith), National Marine Fisheries Service, 75 Virginia Drive, Miami, Florida 33149 has applied in due form for a permit to take smalltooth sawfish (Pristis pectinata) for purposes of scientific research.

DATES: Written, telefaxed, or e-mail comments must be received on or before May 2, 2008.

ADDRESSES: The application and related documents are available for review upon written request or by appointment in the following office(s):

Permits, Conservation and Education Division, Office of Protected Resources, NMFS, 1315 East-West Highway, Room 13705, Silver Spring, MD 20910; phone (301)713-2289; fax (301)427-2521; and

Southeast Region, NMFS, 263 13th Avenue South, St. Petersburg, FL 33701; phone (727)824-5312; fax (727)824-5309.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 13330.

FOR FURTHER INFORMATION CONTACT: Patrick Opay or Jennifer Skidmore, (301)713-2289.

SUPPLEMENTARY INFORMATION: The subject permit is requested under the authority of the Endangered Species Act of 1973, as amended (ESA; 16 U.S.C. 1531 et seq.) and the regulations governing the taking, importing, and exporting of endangered and threatened species (50 CFR 222-226).

The applicant proposes to collect data on the biology, distribution and abundance of the endangered smalltooth sawfish in order to facilitate the recovery of the species. All sawfish captured during field surveys would be handled, measured, tagged, sampled, and released alive. Capture methods would include longline, rod and reel, set lines (drum lines), gill nets, and beach seines. Tagging methods include rototags (fin tags), plastic headed dart tags, Passive Integrated Transponder (PIT) tags, acoustic tags (transmitters), Pop-Up Archival Transmitting (PAT) tags, and Smart Position Only Transmitting (SPOT) tags. Sampling would include a small fin clip and a small blood sample. Sawfish acquired through dead strandings or from law enforcement confiscations would be measured and sampled for scientific purposes. Sampling would occur in Florida, with the goal of taking 45 smalltooth sawfish per year. The applicant requests a permit for five years. Incidental take of sea turtles, sturgeon, coral, dolphins, alligators, crocodiles and manatees are unlikely but possible.

Dated: March 27, 2008.
P. Michael Payne,
Chief, Permits, Conservation and Education Division, Office of Protected Resources, National Marine Fisheries Service.

[FR Doc. E8-6849 Filed 4-1-08; 8:45 am]

BILLING CODE 3510-22-S